DEPARTMENT OF ENERGY

Federal Energy Regulatory Commission

[Docket No. EL02-123-004, et al.]

Boston Edison Company, et al., Electric Rate and Corporate Filings

July 13, 2004.

The following filings have been made with the Commission. The filings are listed in ascending order within each docket classification.

1. Boston Edison Company

[Docket No. EL02-123-004]

Take notice that, on July 2, 2004, Boston Edison Company (BECo) submitted its compliance filing pursuant to the Commission's Order issued June 2, 2004 in Docket No. EL02-123-002, 107 FEC ¶ 61,248.

BECo states that Copies of the filing were served upon the official service list in the above-captioned proceeding and the affected customers.

Comment Date: July 23, 2004.

2. Devon Power LLC, Middletown Power LLC, Montville Power LLC, and NRG Power Marketing Inc

[Docket No. ER03-563-040]

Take notice that on July 8, 2004, Middletown Power LLC (Middletown) and Norwalk Power LLC (Norwalk) tendered for filing revisions to the True-Up Schedules to the Cost-of-Service Agreements between Middletown and Norwalk and ISO New England Inc. (ISO-NE) filed April 7, 2004 in Docket No. ER03-563-032 and amended on June 28, 2004 in Docket No. ER03-563-037.

Middletown and Norwalk state that they have provided copies of the Revised True-Up Schedules to ISO-NE and served each person designated on the official service list compiled by the Secretary in Docket No. ER03-563.

Comment Date: July 29, 2004.

3. New York Independent System Operator Inc.

[Docket No. ER03-836-005]

Take notice that on July 8, 2004, New York Independent System Operator Inc. (NYISO) tendered for filing its third and 10-Minute Non-Synchronous Reserve Market Report (Report). NYISO states that the Report is in response to Commission's order issued July 1, 2003 Conditionally Accepting Proposed Tariff Revisions in Docket No. ER03-836-000.

Comment Date: July 29, 2004.

4. Arizona Public Service Company

[Docket No. ER04-442-003]

Take notice that July 1, 2004 Arizona Public Service Company (APS) submitted for filing revisions to its Open Access Transmission Tariff (OATT) in compliance with the Commission's order issued June 4, 2004 in Docket No. ER04-442-002.

APS states that copies of this letter have been served on all parties on the service list.

Comment Date: July 22, 2004.

5. MidAmerican Energy Company

[Docket No. ER04-627-001]

Take notice that on July 8, 2004, MidAmerican Energy Company (MidAmerican), filed a revised Transmission Operating Agreement between MidAmerican and Nebraska Public Power District in compliance with the Commission's letter order issued May 7, 2004 in Docket No. ER04-627-000.

MidAmerican states that it has served a copy of the filing on the Iowa Utilities Board, the Illinois Commerce Commission and the South Dakota Public Utilities Commission.

Comment Date: July 29, 2004.

6. MAG Energy Solutions Inc.

[Docket No. ER04-839-001]

Take notice that on July 6, 2004, MAG Energy Solutions Inc. (MAG E.S.) submitted for filing additional information and a revised rate schedule regarding its Petition for Acceptance of Initial Rate Schedule, Waivers and Blanket Authority filed May 13, 2004 in Docket No. ER04-839-001.

Comment Date: July 28, 2004.

7. Kansas City Power & Light Company

[Docket No. ER04-982-000]

Take notice that on July 1, 2004, Kansas City Power & Light Company, (KCPL) submitted for filing a Notice of Cancellation of Service Schedules B, D, E and F to KCPL's Rate Schedule FERC No. 88.

KCPL states that it has served a notice of the proposed cancellation on Missouri Public Service Commission, Kansas Corporation Commission and The Empire District Electric Company.

Comment Date: July 22, 2004.

8. Panda Leesburg Power Partners, L.P.

[Docket No. ER04-995-000]

Take notice that on July 9, 2004, Panda Leesburg Power Partners, L.P., (Panda Leesburg), pursuant to 18 CFR 35.13 and 131.53 of the Commission's Rules and Regulations, submitted for filing a Notice of Cancellation of Panda Leesburg's FERC Rate Schedule No. 1. Panda Leesburg requests an effective date of August 20, 2003.

Comment Date: July 30, 2004.

9. Panda Midway Power Partners, L.P.

[Docket No. ER04-996-000]

Take notice that on July 9, 2004, Panda Midway Power Partners, L.P., (Panda Midway), pursuant to 18 CFR 35.13 and 131.53 of the Commission's Rules and Regulations, submitted for filing a Notice of Cancellation of Panda Midway's FERC Rate Schedule No.1. Panda Midway requests an effective date of April 12, 2004.

Comment Date: July 30, 2004.

10. Panda Perkiomen Power, L.P.

[Docket No. ER04-997-000]

Take notice that on July 9, 2004, Panda Perkiomen Power, L.P. (Panda Perkiomen) pursuant to 18 CFR 35.13 and 131.53 of the Commission's Rules and Regulations, submitted for filing a Notice of Cancellation of Panda Perkiomen's FERC Rate Schedule No. 1. Panda Perkiomen requests an effective date of August 20, 2003.

Comment Date: July 30, 2004.

11. Vermont Electric Cooperative, Inc.

[Docket No. ER04-998-000]

Take notice that on July 9, 2004, Vermont Electric Cooperative, Inc. (VEC) tendered for filing, pursuant to section 205 of the Federal Power Act, Rate Schedule FERC No. 11 and two Notices of Cancellation of its existing First Revised Rate Schedule FERC Nos. 5 and 7, affecting the terms and conditions of service to Barton Village, Inc. Electric Department (Barton) and the Village of Orleans Electric Department (Orleans). VEC requests an effective date of April 1, 2004.

VEC states that copies of the filing were served on Barton, Orleans, Vermont Electric Power Company, Inc., the Vermont Public Service Board, and the Vermont Department of Public Service.

Comment Date: July 30, 2004.

12. LG&E Westmoreland Rensselaer

[Docket No. ER04-999-000]

Take notice that on July 8, 2004, LG&E Westmoreland Rensselaer (LG&E Westmoreland) tendered for filing, in accordance with 18 CFR 35.15 of the Commission's Rules and Regulations, a Notice of Cancellation of its Rate Schedule FERC No. 1, Revision No. 1, and all supplements thereto. LG&E Westmoreland requests an effective date of July 1, 2004.

Comment Date: July 29, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-1613 Filed 7-20-04; 8:45 am]

BILLING CODE 6717-01-P